DEPARTMENT OF JUSTICE

[Docket No. ODAG 159]

Notice of Federal Advisory Committee Meeting

AGENCY: Department of Justice.

ACTION: Notice of Federal Advisory Committee meeting. request for public comment.

SUMMARY: The National Commission on Forensic Science will hold meeting nine at the time and location listed below.

DATES:

(1) Public Hearing.—The meeting will be held on March 21, 2016 from 9:00 a.m. to 1:30 p.m. and March 22, 2016 from 9:00 a.m. to 5:30 p.m.

(2) Written Public Comment.—Written public comment regarding National Commission on Forensic Science meeting materials can be submitted through www.regulations.gov starting on March 7, 2016. Any comments should be posted to www.regulations.gov no later than April 5, 2016.

Location: Office of Justice Programs, 3rd floor ballroom. 810 7th Street NW., Washington, DC 20531.

FOR FURTHER INFORMATION CONTACT: Andrew J. Bruck, Senior Counsel to the Deputy Attorney General and Designated Federal Official, 950 Pennsylvania Avenue NW., Washington, DC 20530, by email at Andrew.J.Bruck@usdoj.gov by phone at (202) 305-3481.

SUPPLEMENTARY INFORMATION: Agenda: March 21, 2016, 9:00 a.m. to 1:30 p.m. and March 22, 2016, 9:00 a.m. to 5:30 p.m.—Open Meeting: The public will have the opportunity to make oral comments beginning at 1:30 p.m. on March 21, 2016 and at 5:30 p.m. on March 22, 2016.

Meeting Accessibility: Pursuant to 41 CFR 102-3.140 through 102-3.165 and the availability of space, the meeting scheduled for March 21, 2016, 9:00 a.m. to 1:30 p.m. and March 22, 2016, 9:00 a.m. to 5:30 p.m. at the Office of Justice Programs is open to the public and webcast. Seating is limited and pre-registration is strongly encouraged. Media representatives are also encouraged to register in advance.

Written Comments: Pursuant to section 10(a)(3) of the FACA and 41 CFR 102-3.105(j) and 102-3.140, the public or interested organizations may submit written comments to the Commission in response to the stated agenda and meeting material. Meeting material, including work products will be made available on the Commission's Web site: http://www.justice.gov/ncfs.

Oral Comments: In addition to written statements, members of the public may present oral comments at 1:30 p.m. on March 21, 2016 and at 5:30 p.m. on March 22, 2016. Those individuals interested in making oral comments should indicate their intent through the on-line registration form and time will be allocated on a first-come, first-served basis. Time allotted for an individual's comment period will be limited to no more than 3 minutes. If the number of registrants requesting to speak is greater than can be reasonably accommodated during the scheduled public comment periods, written comments can be submitted through www.regulations.gov in lieu of oral comments.

Registration: Individuals and entities who wish to attend the public meeting are strongly encouraged to pre-register for the meeting on-line by clicking the registration link found at: http://www.justice.gov/ncfs/term-2-meetings-8-15#s9. Online registration for the meeting must be completed on or before 5:00 p.m. (EST) March 17, 2016.

Additional Information: The Department of Justice welcomes the attendance of the public at its advisory committee meetings and will make every effort to accommodate persons with physical disabilities or special needs. If you require special accommodations, please indicate your requirements on the online registration form.

Dated: February 19, 2016.
Andrew J. Bruck,
Designated Federal Official, National Commission on Forensic Science.

[FR Doc. 2016-04180 Filed 2-25-16; 8:45 am]

BILLING CODE 4410-18-P